DEPARTMENT OF COMMERCE

National Oceanic and Atmospheric Administration

[I.D. 062403B]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting which is open to the public.

DATES: The GMT working meeting will begin Monday, July 14, 2003 at 1 p.m. and may go into the evening until business for the day is completed. The meeting will reconvene from 8 a.m. to 5 p.m. Tuesday, July 15 through Friday, July 18.

ADDRESSES: The meetings will be held at the Pacific Fishery Management Council Office, West Conference Room, 7700 NE Ambassador Place, Suite 200, Portland, OR 97220-1384; (503) 820-2280.

Council address: Pacific Fishery Management Council, 7700 NE Ambassador Place, Suite 200, Portland, OR 97220-1384.

FOR FURTHER INFORMATION CONTACT: Mr. John DeVore, Groundfish Fishery Management Coordinator; telephone: (503) 820-2280.

SUPPLEMENTARY INFORMATION: The primary purpose of the GMT meeting is to prepare final recommendations regarding groundfish harvest levels and management for 2004. The GMT will also prepare reports, recommendations, and analyses in support of various Council decisions through the remainder of the year. The following specific items comprise the draft agenda, (1) prepare final acceptable biological catch (ABC) and optimum yield (OY) recommendations for 2004, (2) calculate limited entry, open access, and other allocations, (3) evaluate management options and the Environmental Impact Statement of Proposed Groundfish Management Measures and Specifications for 2004, (4) complete and/or review economic/social analysis of proposed harvest levels and management measures for 2004, (5) resolve any outstanding recreational data issues, (6) evaluate the need for inseason management adjustments, (7) evaluate new observer data and changes to the trawl bycatch model, (8) recommend a new Council Operating Procedure of standards and criteria for approving Exempted Fishing Permits (EFPs), (9) consider recommending any EFPs, (10) evaluate the Programmatic Groundfish Fishery Management Plan Environmental Impact Statement, and (11) other miscellaneous Council groundfish issues.

Although nonemergency issues not contained in this agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at (503) 820-2280 at least 5 days prior to the meeting date.

Dated: June 24, 2003.
Matteo J. Milazzo,
Acting Director, Office of Sustainable Fisheries, National Marine Fisheries Service.

[FR Doc. 03-16433 Filed 6-27-03; 8:45 am]

BILLING CODE 3510-22-S